NATIONAL SCIENCE FOUNDATION

Special Emphasis Panel in Materials Research; Notice of Meetings

In accordance with the Federal Advisory Committee Act (Pub. L. 92-463 as amended), the National Science Foundation announces the following meeting:

Name: Special Emphasis Panel in Materials Research (1203).

Time: 8 a.m.-5 p.m.

Date/Place:

October 5-6, 2000—Massachusetts Institute of Technology, Cambridge, MA

October 17-18, 2000—University of Minnesota, Minneapolis, MN

October 26-27, 2000—University of Chicago, Chicago, IL

December 6-7, 2000—University of Massachusetts, Amherst, MA

December 11-12, 2000—Columbia University, New York, NY

January 16-17, 2001—Stanford University, Palo Alto, CA

January 24-25, 2001—University of Alabama, Tuscaloosa, AL

February 7-8, 2001—University of Kentucky, Lexington, KY

February 22-23, 2001—Harvard University, Cambridge, MA

March 7-8, 2001—University of Colorado, Boulder

March 22-23, 2001—Princeton University, Princeton, NJ

April 3-4, 2001—Michigan State University, East Lansing, MI

Type of Meetings: Closed.

Contact Person: Dr. Carmen Huber, tel (703) 292-4939, or Dr. Ulrich Strom, tel (703) 292-4938, Program Directors, Materials Research Science and Engineering Centers, Division of Materials Research, Room 1065, National Science Foundation, 4201 Wilson Boulevard, Arlington, VA 22230.

Purpose of Meeting: To provide advice and recommendations concerning progress of Materials Research Science and Engineering Centers.

Agenda: Review and evaluate progress of Materials Research Science and Engineering Centers.

Reason For Closing: The Centers being reviewed include information of a proprietary or confidential nature, including technical information; financial data, such as salaries and personal information concerning individuals associated with the proposals. These matters are exempt under 5 U.S.C. 552b(c), (4) and (6) of the Government in the Sunshine Act.

Dated: September 13, 2000.
Karen J. York,
Committee Management Officer.

[FR Doc. 00-23894 Filed 9-15-00; 8:45 am]

BILLING CODE 7555-01-M